DEPARTMENT OF EDUCATION

Applications for New Awards; Graduate Assistance in Areas of National Need

AGENCY: Office of Postsecondary Education, Department of Education.

ACTION: Notice.

SUMMARY: The Department of Education (Department) is issuing a notice inviting applications for new awards for fiscal year (FY) 2021 for the Graduate Assistance in Areas of National Need (GAANN) Program, Assistance Listing Number 84.200A. This notice relates to the approved information collection under OMB control number 1840-0604.

DATES: Applications Available: January 15, 2021.

Deadline for Transmittal of Applications: March 1, 2021.

Deadline for Intergovernmental Review: April 30, 2021.

ADDRESSES: For the addresses for obtaining and submitting an application, please refer to our Common Instructions for Applicants to Department of Education Discretionary Grant Programs, published in the Federal Register on February 13, 2019 (84 FR 3768), and available at www.govinfo.gov/content/pkg/FR-2019-02-13/pdf/2019-02206.pdf.

FOR FURTHER INFORMATION CONTACT: Rebecca Ell, U.S. Department of Education, 400 Maryland Avenue SW, Room 2B-214, Washington, DC 20202. Telephone: (202) 453-6348. Email: OPE_GAANN_Program@ed.gov; or ReShone Moore, U.S. Department of Education, 400 Maryland Avenue SW, Room 2B-214, Washington, DC 20202-4260. Telephone (202) 453-7624. Email: reshone.moore@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The GAANN Program provides grants to academic departments and programs of institutions of higher education (IHEs) to support graduate fellowships for students with excellent academic records who demonstrate financial need and plan to pursue the highest degree available in their course of study at the institution.

Priorities: This notice contains one absolute priority and one competitive preference priority. In accordance with 34 CFR 75.105(b)(2)(ii), the absolute priority is from the regulations for this program (34 CFR 648.33(a) and Appendix to part 648—Academic Areas). Please note that the codes next to selected academic areas under the absolute priority are from the Appendix to part 648—Academic Areas of the program regulations and can be found in the application booklet as well as on www.ecfr.gov/cgi-bin/text-idx?SID=f8ad0cf4f75cd9841b2bc1adb98c5739&mc=true&node=pt34.3.648&rgn=div5. The competitive preference priority is from the notice of final administrative priorities for discretionary grant programs published in the Federal Register on March 9, 2020 (85 FR 13640) (Administrative Priorities).

Absolute Priority: For FY 2021 and any subsequent year for which we make awards from the list of unfunded applications from this competition, this priority is an absolute priority. Under 34 CFR 75.105(c)(3), we consider only applications that meet this priority.

The absolute priority is:

Graduate Assistance in Areas of National Need.

A project must provide fellowships in one or more of the following areas of national need, in an interdisciplinary program of study involving at least two of these areas, or for a multidisciplinary project. A multidisciplinary project is one that requests fellowships for more than a single academic department in one or more of the following areas, and in which each department's program of study is independent.

A. For the following academic areas, the project must provide fellowships for programs that lead either to a Professional Science Master's (PSM) degree, master's degree or a doctoral degree, whichever is the highest degree awarded in the area of need at the institution.

1. Computer and Information Sciences. A degree or a degree with specialization in one or more of the following areas:

• Cybersecurity (the interdiscipline of “11.01 Computer and Information Sciences, General” and “11.05 Computer Systems Analysis”).

• Secure computer programming (the interdiscipline of “11.01 Computer and Information Sciences, General” and “11.02 Computer Programming”).

• Artificial Intelligence (the interdiscipline of “11.02 Computer Programming,” “11.04 Information Sciences and Systems,” and “14.09 Computer Engineering”).

2. 14. Engineering.

14.01 Engineering, General

14.02 Aerospace, Aeronautical, and Astronautical Engineering

14.03 Agricultural Engineering

14.04 Architectural Engineering

14.05 Bioengineering and Biomedical Engineering

14.06 Ceramic Sciences and Engineering

14.07 Chemical Engineering

14.08 Civil Engineering

14.09 Computer Engineering

14.10 Electrical, Electronic, and Communications Engineering

14.11 Engineering Mechanics

14.12 Engineering Physics

14.13 Engineering Science

14.14 Environmental/Environmental Health Engineering

14.15 Geological Engineering

14.16 Geophysical Engineering

14.17 Industrial/Manufacturing Engineering

14.18 Materials Engineering

14.19 Mechanical Engineering

14.20 Metallurgical Engineering

14.21 Mining and Mineral Engineering

14.22 Naval Architecture and Marine Engineering

14.23 Nuclear Engineering

14.24 Ocean Engineering

14.25 Petroleum Engineering

14.27 Systems Engineering

14.28 Textile Sciences and Engineering

14.29 Engineering Design

14.30 Engineering/Industrial Management

14.31 Materials Science

14.32 Polymer/Plastics Engineering

B. For the following academic areas, the project must provide fellowships in programs that lead either to a PSM degree, master's degree, or a doctoral degree, whichever is the highest degree awarded in the area of need at the institution. Students pursuing a degree in one of these areas are planning a career in either teaching or research.

• 26. Biological Sciences/Life Sciences.

26.01 Biology, General

26.02 Biochemistry and Biophysics

26.03 Botany

26.04 Cell and Molecular Biology

26.05 Microbiology/Bacteriology

26.06 Miscellaneous Biological Specializations

26.07 Zoology

• 42. Psychology.

42.01 Psychology

42.02 Clinical Psychology

42.03 Cognitive Psychology and Psycholinguistics

42.04 Community Psychology

42.06 Counseling Psychology

42.07 Developmental and Child Psychology

42.08 Experimental Psychology

42.09 Industrial and Organizational Psychology

42.11 Physiological Psychology/Psychobiology

42.16 Social Psychology

42.17 School Psychology

• 51.16 Nursing. Applications from nursing programs must focus on the preparation of nursing scholars for educational leadership roles. Graduates will become teachers preparing students for careers in nursing and will disseminate to the public new knowledge gained from disciplined inquiry related to nursing and nursing education.

Note: Not for clinical degrees.

Competitive Preference Priority: For FY 2021 and any subsequent year in which we make awards from the list of unfunded applications from this competition, this priority is a competitive preference priority. Under 34 CFR 75.105(c)(2)(i), we award an additional one point to an application that meets this priority.

This priority is:

Applications from New Potential Grantees (1 point).

Under this priority, an applicant must demonstrate that the applicant does not, as of the deadline date for submission of applications, have an active grant, including through membership in a group application submitted in accordance with 34 CFR 75.127-75.129, under the program from which it seeks funds.

Note: For the purpose of this priority, a grant or contract is active until the end of the grant's or contract's project or funding period, including any extensions of those periods that extend the grantee's or contractor's authority to obligate funds.

Program Authority: 20 U.S.C. 1135-1135e.

Note: Projects must be awarded and operated in a manner consistent with the nondiscrimination requirements contained in the U.S. Constitution and the Federal civil rights laws.

Applicable Regulations: (a) The Education Department General Administrative Regulations in 34 CFR parts 75, 77, 79, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR part 648. (e) The Administrative Priorities.

Note: The open licensing requirement in 2 CFR 3474.20 does not apply to this program.

II. Award Information

Type of Award: Discretionary grants, including funds redistributed as graduate fellowships to individual fellows.

Estimated Available Funds: $20,425,000.

Contingent upon the availability of funds and the quality of applications, we may make additional awards in subsequent years from the list of unfunded applications from this competition.

Estimated Range of Awards: $101,460-$405,840.

Estimated Average Size of Awards: $275,000.

Estimated Number of Awards: 72.

Note: The Department is not bound by any estimates in this notice.

Project Period: Up to 36 months.

Stipend Level: For the 2021-22 academic year, the institution must pay the fellow a stipend at a level of support equal to that provided by the National Science Foundation Graduate Research Fellowship Program, except that this amount must be adjusted as necessary so as not to exceed the fellow's demonstrated level of financial need as stated under part F of title IV of the Higher Education Act of 1965, as amended.

Institutional Payment: For the 2021-22 academic year, the estimated institutional payment is $16,730 per fellow. This amount was determined by adjusting the previous academic year's institutional payment of $16,370 per fellow by the U.S. Department of Labor's Consumer Price Index for the 2020 calendar year.

III. Eligibility Information

1. Eligible Applicants: (a) Any academic department of an IHE that provides a course of study that—

(i) Leads to a graduate degree in an area of national

need; and

(ii) Has been in existence for at least four years at the time of an application for a grant under this competition; or

(b) An academic department of an IHE that—

(i) Satisfies the requirements of paragraph (a) of this section; and

(ii) Submits a joint application with one or more eligible non-degree-granting institutions that have formal arrangements for the support of doctoral dissertation research with one or more degree-granting institutions.

Note: Students are not eligible to apply for grants under this program.

Note: If you are a nonprofit organization, under 34 CFR 75.51, you may demonstrate your nonprofit status by providing: (1) Proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

2. a. Cost Sharing or Matching: An institution must provide, from non-Federal funds, an institutional matching contribution equal to at least 25 percent of the grant amount received. (See 34 CFR 648.7.)

b. Supplement-Not-Supplant: This competition involves supplement-not-supplant funding requirements. (See 34 CFR 648.20(b)(5).)

c. Indirect Cost Rate Information: We specify unallowable costs under IV. Application and Submission Information.

d. Administrative Cost Limitation: We specify unallowable costs under IV. Application and Submission Information.

3. Subgrantees: A grantee under this competition may not award subgrants to entities to directly carry out project activities described in its application.

4. Other: For requirements relating to selecting fellows, see 34 CFR 648.40.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Intergovernmental Review: This program is subject to Executive Order 12372 and the regulations in 34 CFR part 79. Information about Intergovernmental Review of Federal Programs under Executive Order 12372 is in the application package for this program.

3. Funding Restrictions: We specify unallowable costs in 34 CFR 648.64. We reference additional regulations outlining funding restrictions in the Applicable Regulations section of this notice.

4. Recommended Page Limit: Applications that do not follow the page limit and formatting recommendations will not be penalized. The application narrative is where you, the applicant, address the selection criteria that reviewers use to evaluate your application. We recommend the following page limits and standards:

• A project narrative in a single discipline or for an interdisciplinary course of study should be limited to no more than 40 pages.

• A project narrative for a multidisciplinary project should be limited to no more than 40 pages for each academic department.

• A “page” is 8.5″ x 11″, on one side only, with 1″ margins.

• Double-space all text in the application project narrative, and single-space titles, headings, footnotes, quotations, references, and captions.

• Use a 12-point font.

• Use an easily readable font such as Times New Roman, Courier, Courier New, or Arial.

• Limit appendices to the following: Two-page version of a curriculum vitae, per faculty member; a course listing; letters of commitment showing institutional support; a bibliography; and one additional optional appendix relevant to the support of the proposals, recommended not to exceed five pages.

The recommended page limit does not include the Application for Federal Assistance (SF 424) and the Department of Education Supplemental Information for the SF 424 Form; the one-page abstract; the GAANN Statutory Assurances Form; the GAANN Budget Spreadsheet(s) Form; the Appendices; the Assurances and Certifications; or an optional two-page table of contents.

V. Application Review Information

1. Selection Criteria: The selection criteria for this program are from 34 CFR 648.31 and are as follows:

(a) Meeting the purposes of the program (7 points). The Secretary reviews each application to determine how well the project will meet the purposes of the program, including the extent to which—

(1) The applicant's general and specific objectives for the project are realistic and measurable;

(2) The applicant's objectives for the project seek to sustain and enhance the capacity for teaching and research at the institution and at State, regional, or national levels;

(3) The applicant's objectives seek to institute policies and procedures to ensure the enrollment of talented graduate students from traditionally underrepresented backgrounds; and

(4) The applicant's objectives seek to institute policies and procedures to ensure that it will award fellowships to individuals who satisfy the requirements of 34 CFR 648.40.

(b) Extent of need for the project (5 points). The Secretary considers the extent to which a grant under the program is needed by the academic department by considering—

(1) How the applicant identified the problems that form the specific needs of the project;

(2) The specific problems to be resolved by successful realization of the goals and objectives of the project; and

(3) How increasing the number of fellowships will meet the specific and general objectives of the project.

(c) Quality of the graduate academic program (20 points). The Secretary reviews each application to determine the quality of the current graduate academic program for which project funding is sought, including—

(1) The course offerings and academic requirements for the graduate program;

(2) The qualifications of the faculty, including education, research interest, publications, teaching ability, and accessibility to graduate students;

(3) The focus and capacity for research; and

(4) Any other evidence the applicant deems appropriate to demonstrate the quality of its academic program.

(d) Quality of the supervised teaching experience (10 points). The Secretary reviews each application to determine the quality of the teaching experience the applicant plans to provide fellows under this program, including the extent to which the project—

(1) Provides each fellow with the required supervised training in instruction;

(2) Provides adequate instruction on effective teaching techniques;

(3) Provides extensive supervision of each fellow's teaching performance; and

(4) Provides adequate and appropriate evaluation of the fellow's teaching performance.

(e) Recruitment plan (5 points). The Secretary reviews each application to determine the quality of the applicant's recruitment plan, including—

(1) How the applicant plans to identify, recruit, and retain students from traditionally underrepresented backgrounds in the academic program for which fellowships are sought;

(2) How the applicant plans to identify eligible students for fellowships;

(3) The past success of the academic department in enrolling talented graduate students from traditionally underrepresented backgrounds; and

(4) The past success of the academic department in enrolling talented graduate students for its academic program.

(f) Project administration (8 points). The Secretary reviews the quality of the proposed project administration, including—

(1) How the applicant will select fellows, including how the applicant will ensure that project participants who are otherwise eligible to participate are selected without regard to race, color, national origin, religion, gender, age, or disabling condition;

(2) How the applicant proposes to monitor whether a fellow is making satisfactory progress toward the degree for which the fellowship has been awarded;

(3) How the applicant proposes to identify and meet the academic needs of fellows;

(4) How the applicant proposes to maintain enrollment of graduate students from traditionally underrepresented backgrounds; and

(5) The extent to which the policies and procedures the applicant proposes to institute for administering the project are likely to ensure efficient and effective project implementation, including assistance to and oversight of the project director.

(g) Institutional commitment (15 points). The Secretary reviews each application for evidence that—

(1) The applicant will provide, from any funds available to it, sufficient funds to support the financial needs of the fellows if the funds made available under the program are insufficient;

(2) The institution's social and academic environment is supportive of the academic success of students from traditionally underrepresented backgrounds on the applicant's campus;

(3) Students receiving fellowships under this program will receive stipend support for the time necessary to complete their courses of study, but in no case longer than five years; and

(4) The applicant demonstrates a financial commitment, including the nature and amount of the institutional matching contribution, and other institutional commitments that are likely to ensure the continuation of project activities for a significant period of time following the period in which the project receives Federal financial assistance.

(h) Quality of key personnel (5 points). The Secretary reviews each application to determine the quality of key personnel the applicant plans to use on the project, including—

(1) The qualifications of the project director;

(2) The qualifications of other key personnel to be used in the project;

(3) The time commitment of key personnel, including the project director, to the project; and

(4) How the applicant, as part of its nondiscriminatory employment practices, will ensure that its personnel are selected without regard to race, color, national origin, religion, gender, age, or disabling condition, except pursuant to a lawful affirmative action plan.

(i) Budget (5 points). The Secretary reviews each application to determine the extent to which—

(1) The applicant shows a clear understanding of the acceptable uses of program funds; and

(2) The costs of the project are reasonable in relation to the objectives of the project.

(j) Evaluation plan (15 points). The Secretary reviews each application to determine the quality of the evaluation plan for the project, including the extent to which the applicant's methods of evaluation—

(1) Relate to the specific goals and measurable objectives of the project;

(2) Assess the effect of the project on the students receiving fellowships under this program, including the effect on persons of different racial and ethnic backgrounds, genders, and ages, and on persons with disabilities who are served by the project;

(3) List both process and product evaluation questions for each project activity and outcome, including those of the management plan;

(4) Describe both the process and product evaluation measures for each project activity and outcome;

(5) Describe the data collection procedures, instruments, and schedules for effective data collection;

(6) Describe how the applicant will analyze and report the data so that it can make adjustments and improvements on a regular basis; and

(7) Include a time-line chart that relates key evaluation processes and benchmarks to other project component processes and benchmarks.

(k) Adequacy of resources (5 points). The Secretary reviews each application to determine the adequacy of the resources that the applicant makes available to graduate students receiving fellowships under this program, including facilities, equipment, and supplies.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

For this competition, a panel of non-Federal reviewers will review each application in accordance with the selection criteria in 34 CFR 648.31 and the competitive preference priority, if that applies. The individual scores of the reviewers will be added and the sum divided by the number of reviewers to determine the peer review score received in the review process.

Additional factors we consider in selecting an application for an award are in 34 CFR 648.32.

3. Risk Assessment and Specific Conditions: Consistent with 2 CFR 200.205, before awarding grants under this program the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115—232) (2 CFR 200.216);

(c) Promoting the freedom of speech and religious liberty in alignment with Promoting Free Speech and Religious Liberty (E.O. 13798) and Improving Free Inquiry, Transparency, and Accountability at Colleges and Universities (E.O. 13864) (2 CFR 200.300, 200.303, 200.339, and 200.341);

(d) Providing a preference, to the extent permitted by law, to maximize use of goods, products, and materials produced in the United States (2 CFR 200.322); and

(e) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Grantees will be required to submit a supplement to the Final Performance Report two years after the expiration of their GAANN grant. The purpose of this supplement is to identify and report the educational outcome of each GAANN fellow.

4. Performance Measures: Under the Government Performance and Results Act of 1993, the following measures will be used by the Department in assessing the performance of the GAANN Program and for Department reporting under 34 CFR 75.110:

(1) The percentage of GAANN fellows completing the terminal degree in the designated areas of national need.

(2) The median time to completion of master's and doctoral degrees for GAANN fellows.

(3) The percentage of GAANN fellows who have placements in faculty or professional positions in the area of their studies within one year of completing the degree.

If funded, you will be required to collect and report data in your project's annual performance report (34 CFR 75.590) on those measures and steps taken toward improving performance toward those outcomes. Consequently, applicants are advised to include these outcome measures in conceptualizing the design, implementation, and evaluation of their proposed projects. These outcome measures should be included in the project evaluation plan, in addition to measures of your progress toward the goals and objectives specific to your project.

All grantees will be expected to submit an annual performance report documenting their success in addressing these performance measures.

5. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact persons listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Christopher J. McCaghren,
Acting Assistant Secretary for Postsecondary Education.

[FR Doc. 2021-00766 Filed 1-14-21; 8:45 am]

BILLING CODE 4000-01-P